DEPARTMENT OF ENERGY

Federal Energy Regulatory Commission

[Docket No. GT00-19-002]

Kinder Morgan Interstate Gas Transmission LLC; Notice of Tariff Filing

April 25, 2000.

Take notice that on April 20, 2000, Kinder Morgan Interstate Gas Transmission LLC (KMIGT), formerly K N Interstate Gas Transmission Co. (KNI) tendered for filing to become part of its FERC Gas Tariff, Fourth Revised Volume Nos. 1-A and 1-B, and Second Revised Volume Nos. 1-C and 1-D, the following revised tariff sheets, with an effective date of December 28, 1999:

Fourth Revised Volume No. 1-A

Substitute Original Sheet No. 0

Fourth Revised Volume No. 1-B

Substitute Original Sheet No. 0

Second Revised Volume No. 1-C

Substitute Original Sheet No. 0

Second Revised Volume No. 1-D

Substitute Original Sheet No. 0

KMIGT states that the purpose of this filing is to submit revised tariff sheets reflecting that KMIGT's Fourth Revised Volume Nos. 1-A and 1-B, and Second Revised Volume Nos. 1-C and 1-D cancel and supersede KNI's FERC Gas Tariff, Third Revised Volume Nos 1-A and 1-B, and First Revised Volume Nos. 1-C and 1-D, respectively.

Any person desiring to protest this filing should file a protest with the Federal Energy Regulatory Commission, 888 First Street, N.E., Washington, D.C. 20426, in accordance with Section 385.211 of the Commission's Rules and Regulations. All such protest must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-10719 Filed 4-28-00; 8:45 am]

BILLING CODE 6717-01-M